DEPARTMENT OF LABOR

Employment and Training Administration

[TA-W-61,234]

Penn Mould Industries, Inc., Washington, PA; Notice of Revised Determination on Reconsideration

By letter dated June 11, 2007 the United Steelworkers of America, District 10 requested administrative reconsideration regarding the Department's Negative Determination Regarding Eligibility to Apply for Worker Adjustment Assistance, applicable to the workers of the subject firm.

Workers of the subject firm were certified eligible to apply for trade adjustment assistance under petition number TA-W-56,570, which expired on April 28, 2007. The initial investigation resulted in a negative determination signed on May 2, 2007 was based on the finding that the subject company did not separate or threaten to separate a significant number of workers since the expiration of the previous certification. The denial notice was published in the Federal Register on May 17, 2007 (72 FR 27855).

To support the request for reconsideration, the petitioner supplied additional information regarding employment at the subject.

Upon further contact with the subject firm's company official, it was revealed that the subject firm separated a significant number of workers during June 2007 and there is a threat of future separations. The investigation also revealed that the subject firm is in the process of shifting production of molding equipment for glass containers to Colombia, a beneficiary country under the Andean Trade Preference Act during the relevant period. The shift contributed importantly to the layoffs at the subject firm.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the facts obtained in the investigation, I determine that there was a shift in production from the workers' firm or subdivision to Colombia of articles that are like or directly competitive with those produced by the subject firm or subdivision. In accordance with the provisions of the Act, I make the following certification:

“All workers of Penn Mould Industries, Inc., Washington, Pennsylvania who became totally or partially separated from employment on or after April 29, 2007 through two years from the date of this certification, are eligible to apply for adjustment assistance under section 223 of the Trade Act of 1974, and are eligible to apply for alternative trade adjustment assistance under section 246 of the Trade Act of 1974.”

Signed in Washington, DC, this 22nd day of June 2007.
Elliott S. Kushner,
Certifying Officer, Division of Trade Adjustment Assistance.

[FR Doc. E7-12912 Filed 7-3-07; 8:45 am]

BILLING CODE 4510-FN-P